NUCLEAR REGULATORY COMMISSION

Advisory Committee on Nuclear Waste; Notice of Meeting

The Advisory Committee on Nuclear Waste (ACNW) will hold its 144th meeting on July 29-31, 2003, 11545 Rockville Pike, Rockville, Maryland.

The entire meeting will be open to public attendance.

The schedule for this meeting is as follows:

Tuesday, July 29, 2003, NRC Auditorium, Two White Flint North, Rockville, Maryland

9:30 a.m.-9:40 a.m.: Opening Statement (Open)—The Chairman will open the meeting and turn it over to the Working Group chairman who will state the Workshop objectives and provide a session overview.

Working Group on Performance Confirmation Plans for the Proposed Yucca Mountain High-Level Waste Repository (Open)

The purposes of the working group are (1) To increase ACNW's technical knowledge of plans to develop and conduct performance confirmation (PC) work for the proposed Yucca Mountain repository, (2) to understand NRC staff expectations for performance confirmation, (3) to review examples of performance confirmation work being planned, (4) to identify aspects of performance confirmation that may warrant further study, and (5) to complement the previous working group session on performance assessment.

9:40 a.m.-10:40 a.m.: Keynote Presentation: What Should Be Measured During Performance Confirmation? How Will These Measurements Enhance Confidence by Confirming Predicted Repository Behavior? (Open)—The Committee will hear views on performance confirmation by a distinguished expert.

10:55 a.m.-11:45 a.m.: Introduction to Performance Confirmation (NRC's Expectations Regarding Content of PC Plans in a License Application) (Open)—The Committee will hear presentations by and hold discussions with representatives of the NRC's Office of Nuclear Material Safety and Safeguards (NMSS), Division of Waste Management (DWM), regarding the content of Performance Confirmation Plans in a License Application.

11:45 a.m.-12:15 p.m.: Introduction to Performance Confirmation (Open)—The Committee will hear a presentation by a representative from DOE regarding the Performance Confirmation.

1:15 p.m.-2:45 p.m.: Decision Analysis Process Used to Develop a Performance Confirmation Program (Open)—The Committee will hear a presentation by a representative from DOE regarding the decision analysis process used to develop a Performance Confirmation Program.

3 p.m.-4:40 p.m.: Elements of a Performance Confirmation Program—A Presentation of DOE's Selected Program and Its Components (Open)—The Committee will hear a presentation by a representative from DOE regarding the elements of a Performance Confirmation Program.

4:55 p.m.-5:30 p.m.: Documentation and Further Development of the Performance Confirmation Program—A Presentation on Possible Changes in the Next Revision of DOE's PC Plan (Open)—The Committee will hear a presentation by a representative from DOE regarding possible changes in the next revision of DOE's Performance Confirmation Plan.

5:30 p.m.-6 p.m.: Public Comments (Open)—The Committee will hear comments from the public.

Wednesday, July 30, 2003, NRC Auditorium, Two White Flint North, Rockville, Maryland

Working Group on Performance Confirmation Plans for the Proposed Yucca Mountain High-Level Waste Repository (Open) (Continued)

8:30 a.m.-8:35 a.m.: Opening Statement (Open)—The Chairman will make opening remarks regarding the conduct of today's sessions.

8:35 a.m.-9:30 a.m.: NRC's Risk Insights Initiative and its Impact on Review of Performance Confirmation Plans (Open)—The Committee will hear a presentation by a representative from NRC's NMSS/DWM regarding the risk insights initiative and its impact on review of Performance Confirmation Plans.

9:30 a.m.-10 a.m.: NRC's Acceptance Criteria in the Yucca Mountain Review Plan for Review of Performance Confirmation (Open)—The Committee will hear a presentation by a representative from NRC's NMSS/DWM regarding the acceptance criteria in the Yucca Mountain Review Plan for Review of Performance Confirmation.

10:15 a.m.-12:15 p.m.: Presentations by Representatives of the State of Nevada, several affected Counties, the Las Vegas Paiutes, and the Electric Power Research Institute (Open)—The Committee will hear presentations by and hold discussions with representatives of the State of Nevada, several affected counties, the Las Vegas Paiutes, and EPRI regarding Performance Confirmation.

1:15 p.m.-2 p.m.: Research Perspective on Long-Term Testing for Performance Confirmation—Development of an Integrated Ground-Water Monitoring Strategy (Open)—The Committee will hear a presentation by a representative of the NRC's Office of Nuclear Regulatory Research regarding long-term testing for Performance Confirmation.

2 p.m.-4:55 p.m.: Panel and Committee Discussion Working Group Roundtable (Open)—The Panel and the Committee will further discuss today's topics.

4:55 p.m.-6:15 p.m.: Preparation of ACNW Report (Open)—Discussion of principal points in a proposed ACNW report on the Performance Confirmation Working Group.

Thursday, July 31, 2003, Conference Room 2B3, Two White Flint North, Rockville, Maryland

8:30 a.m.-8:35 a.m.: Opening Statement (Open)—The Chairman will make opening remarks regarding the conduct of today's sessions.

8:35 a.m.-9:30 a.m.: Risk-Informed Regulation for NMSS: Status Report and Plan for Future Work (Open)—Briefing by and discussions with representatives of the NRC NMSS Risk Task Group regarding the current status of risk-informed regulation for NMSS and the plan for future work.

9:30 a.m.-10 a.m.: Summer Intern Project (Open)—The ACNW summer intern will update the Committee on the status of her project titled “Assessing Model Uncertainty in Performance Assessment.”

11 a.m.-11:45 a.m.: ACNW September Retreat (Open)—Members will finalize plans for the Committee's September retreat which is scheduled during the 145th meeting (September 16-18, 2003).

11:45 a.m.-12:15 p.m.: Committee Visit to Yucca Mountain (Open)—The Committee will finalize plans for the Yucca Mountain Site visit scheduled for the 147th meeting (November 18-20, 2003).

1:15 p.m.-2:30 p.m.: Preparation for Meeting with the NRC Commissioners (Open)—The Committee will discuss proposed topics for the ACNW meeting with the NRC Commissioners which is scheduled for Thursday, October 23, 2003, between 10 a.m. and 12 Noon.

2:30 p.m.-5:45 p.m.: Preparation of ACNW Reports (Open)—The Committee will discuss proposed ACNW reports.

5:45 p.m.-6:00 p.m.: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public. Electronic recordings will be permitted only during those portions of the meeting that are open to the public. Persons desiring to make oral statements should notify Mr. Howard J. Larson, ACNW (Telephone 301/415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: July 15, 2003.
Andrew L. Bates,
Advisory Committee Management Officer.

[FR Doc. 03-18414 Filed 7-18-03; 8:45 am]

BILLING CODE 7590-01-P